DEPARTMENT OF HOMELAND SECURITY

Private Sector Clearance Program Request Form

AGENCY: National Protection and Programs Directorate (NPPD), Department of Homeland Security (DHS).

ACTION: 30-Day notice and request for comments; revised information collection request: 1670-0013.

SUMMARY: DHS NPPD will submit the following information collection request (ICR) to the Office of Management and Budget (OMB) for review and clearance in accordance with the Paperwork Reduction Act of 1995. NPPD previously published this ICR in the Federal Register on Thursday, February 1, 2018 for a 60-day public comment period. One comment was received by NPPD. The purpose of this notice is to allow an additional 30 days for public comments.

DATES: Comments are encouraged and will be accepted until July 5, 2018.

ADDRESSES: Interested persons are invited to submit written comments on the proposed information collection to the Office of Information and Regulatory Affairs, OMB. Comments should be addressed to OMB Desk Officer, Department of Homeland Security and sent via electronic mail to dhsdeskofficer@omb.eop.gov. All submissions must include the words “Department of Homeland Security” and the OMB Control Number 1670-0013.

Comments submitted in response to this notice may be made available to the public through relevant websites. For this reason, please do not include in your comments information of a confidential nature, such as sensitive personal information or proprietary information. Please note that responses to this public comment request containing any routine notice about the confidentiality of the communication will be treated as public comments that may be made available to the public notwithstanding the inclusion of the routine notice.

FOR FURTHER INFORMATION CONTACT: For specific questions related to collection activities, please contact Quintin Whitaker at 703-235-9485 or at PSCP@HQ.DHS.GOV.

SUPPLEMENTARY INFORMATION: Partnerships between the U.S. Government and the private sector at times necessitate the sharing of classified information. The Private Sector Clearance Program (PSCP) facilitates this sharing by sponsoring security clearances for “appropriate representatives of sector coordinating counsels, sector information sharing and analysis organizations [(ISAOs),] owners and operators of critical infrastructure, and any other person that the Secretary determines appropriate.” 6 U.S.C. 150. In order to begin this process of approving an applicant to participate in the clearance program, the applicant's employment information and Personally Identifiable Information (PII) is collected. Their association/SCC membership or employment information is reviewed for approval, and their PII is input into e-QIP, the Office of Personnel Management's (OPM) secure portal for investigation processing.

The U.S. Government is authorized to ask for this information under Sections 201 and 229 of the Homeland Security Act of 2002 (Pub. L. 107-296, 6 U.S.C. 121, 150), and Executive Orders 12968, 13526, 13549, 13636, and 13691 which authorize the collection of this information.

The PSCP is designed to process security clearances for private sector personnel who have been sponsored for access to classified information by a Federal Agency. In 2010, through Executive Order 13549, the President established the Classified National Security Information Program (otherwise known as the Private Sector Clearance Program) to “safeguard and govern access to classified national security information shared by the Federal Government with State, local, tribal, and private sector (SLTPS) entities. 75 FR 51609, 1.1 (2010). In 2013, in a subsequent Executive Order 16363, the President directed the Secretary of Homeland Security, as Executive Agent for PSCP, to “expedite the processing of security clearances to appropriate personnel employed by critical infrastructure owners and operators, prioritizing the critical infrastructure identified in section 9 of this order.” 78 FR 11739, 11740 4(d) (2013). Section 9 of Executive Order 13636 refers to “critical infrastructure where a cybersecurity incident could reasonably result in catastrophic regional or national effects on public health or safety, economic security, or national security.” Id. at Section 9. In 2014 and 2015, Congress codified PSCP in section 229 of the Homeland Security Act of 2002, authorizing the Secretary of Homeland Security to “make available the process of application for security clearances under Executive Order 13549 . . . or any successor Executive Order to appropriate representatives of sector coordinating councils, sector information sharing and analysis organizations . . . , owners and operators of critical infrastructure, and any other persons that the Secretary determines appropriate.” 6 U.S.C. 150. Also in 2015, through Executive Order 13691, the President designated the National Cybersecurity and Communications Integration Center (NCCIC) as a critical infrastructure protection program and required the Department to manage the sharing of classified cybersecurity information under this designation. E.O. 13691, 80 FR 9349 4(a) (2015); see 6 U.S.C. 132. These partners are subject matter experts within specific industries and have specialized knowledge not available within DHS. Private citizens do not receive monetary compensation for their time. DHS has created this program to facilitate clearances for these individuals who are not employed by an agency of the Federal government or otherwise have a contract, license or grant with an agency of the Federal government pursuant to E.O. 12829 (the traditional means of obtaining a clearance) and must have clearances.

Program changes require a revision of the existing collection. These changes include: Updating the title of the collection and updates to the form itself and reflects the potential for increased sponsorship and associated justifications articulated in section 229 of the Homeland Security Act of 2002 and Presidential direction through the 2013 and 2015 Executive Orders.

The form will accommodate an increase in potential sponsorships and be used by additional programs in the same manner to sponsor private sector entities and individuals for security clearances. The additional sponsorships and programs will increase the burden totals by 360 responses, 60 burden hours, and $6,155 annual burden cost. For current programs using the form, the burden estimates have decreased by 200 responses, 33 burden hours and $706 annual burden cost based on actual responses received. As a result, the total burden estimates will increase overall by 160 responses, 27 burden hours, $5,448 annual burden costs.

The changes to the form itself include: Updating the title; adding a program type field, adding justification guidance to the back of the form, and updating the wording of the field titles and instructions to improve clarity. A redlined mockup of the form changes will be included as a supplement to this supporting statement. The changes to the form itself will not change the burden estimates as the only field being added is an open text field to distinguish the justification for the nomination.

The annual government cost for the collection has increased by $91,998, from $150,852 to $242,850, due to updated wage rates.

This ICR was previously published at 83 FR 4670 for 60-day comment, and NPPD is soliciting public comment for another 30 days. OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Private Sector Clearance Program Request Form.

OMB Control Number: 1670-0013.

Frequency: Annually.

Affected Public: Private and Public Sector.

Number of Respondents: 660 respondents.

Estimated Time per Respondent: 10 minutes.

Total Burden Hours: 110 annual burden hours.

Total Burden Cost (capital/startup): $0.

Total Burden Cost (operating/maintaining): $0.

Total Recordkeeping Burden: $0.

David Epperson,
Chief Information Officer.

[FR Doc. 2018-11966 Filed 6-4-18; 8:45 am]

BILLING CODE 9110-9P-P